DEPARTMENT OF HEALTH AND HUMAN SERVICES

Health Resources and Services Administration

National Advisory Committee on Rural Health and Human Services; Notice of Meeting

In accordance with section 10(a)(2) of the Federal Advisory Committee Act (Pub. L. 92-463), announcement is made of the following National Advisory body scheduled to meet during the month of September 2013.

The National Advisory Committee on Rural Health will convene its seventy-fourth meeting in the time and place specified below:

Name: National Advisory Committee on Rural Health and Human Services.

Dates and Time: September 4, 2013, 9:00 a.m.-5 p.m. September 5, 2013, 9:00 a.m.-5 p.m. September 6, 2013, 8:45 a.m.-11:00 a.m.

Place: Holiday Inn Bozeman, 5 East Baxter Lane, Bozeman, MT 59715, (406) 587-4561.

Status: The meeting will be open to the public.

Purpose: The National Advisory Committee on Rural Health and Human Services provides counsel and recommendations to the Secretary with respect to the delivery, research, development, and administration of health and human services in rural areas.

Agenda: Wednesday morning, September 4, at 9:00 a.m., the meeting will be called to order by the Chairperson of the Committee: the Honorable Ronnie Musgrove. The Committee will be examining outreach, enrollment and education efforts for the rural population in regards to the Health Insurance Marketplaces which will open this fall. The Committee will also examine the intersection of human service delivery and poverty in rural communities. The day will conclude with a period of public comment at approximately 5:00 p.m.

Thursday morning, September 5, at approximately 9:00 a.m., the Committee will break into Subcommittees and depart for site visits to health care and human services providers in Montana. One panel from the Health Subcommittee will visit Community Health Partners in Livingston, Montana. Another panel from the Health Subcommittee will visit Wheatland Memorial Healthcare in Harlowton, Montana. The Human Services Subcommittee will visit the Human Resource Development Council, in Bozeman, Montana. The day will conclude at the Holiday Inn Bozeman with a period of public comment at approximately 4:30 p.m.

Friday morning, September 6, at 8:45 a.m., the Committee will summarize key findings from the meeting and develop a work plan for the next quarter and the following meeting.

FOR FURTHER INFORMATION CONTACT: Steve Hirsch, MSLS, Executive Secretary, National Advisory Committee on Rural Health and Human Services, Health Resources and Services Administration, Parklawn Building, Room 5A-05, 5600 Fishers Lane, Rockville, MD 20857, telephone (301) 443-0835, or fax (301) 443-2803.

Persons interested in attending any portion of the meeting should contact Kristen Lee at the Office of Rural Health Policy (ORHP) via telephone at (301) 443-0835 or by email at klee1@hrsa.gov. The Committee meeting agenda will be posted on ORHP's Web site http://www.hrsa.gov/advisorycommittees/rural/.

Dated: July 24, 2013.
Bahar Niakan,
Director, Division of Policy and Information Coordination.

[FR Doc. 2013-18308 Filed 7-29-13; 8:45 am]

BILLING CODE 4165-15-P